DEPARTMENT OF HEALTH AND HUMAN SERVICES

Centers for Disease Control and Prevention

[30Day-16-04]

Proposed Data Collections Submitted for Public Comment and Recommendations

The Centers for Disease Control and Prevention (CDC) publishes a list of information collection requests under review by the Office of Management and Budget (OMB) in compliance with the Paperwork Reduction Act (44 U.S.C. chapter 35). To request a copy of these requests, call the CDC Reports Clearance Officer at (404) 498-1210. Send written comments to CDC, Desk Officer, Human Resources and Housing Branch, New Executive Office Building, Room 10235, Washington, DC 20503 or by fax to (202) 395-6974. Written comments should be received within 30 days of this notice.

Proposed Project: NIOSH Training Grant Applications 42 CFR Part 86, OMB NO. 0920-0261—Extension—National Institute for Occupational Safety and Health (NIOSH), Centers for Disease Control and Prevention (CDC).

Public law 91-596 requires CDC, National Institute of Occupational Safety and Health (NIOSH) to provide an adequate supply of professionals to carry out the purposes of the Act to assure a safe and healthful work environment. NIOSH supports educational programs through training grant awards to academic institutions for the training of industrial hygienists, occupational physicians, occupational health nurses, safety professionals and other professionals in related disciplines, such as occupational epidemiologists. Grants are provided to regional Education and Research Centers (ERCs) which provide multidisciplinary graduate academic and research training for professionals, continuing education for practicing professionals and outreach programs. There are also Training Project Grants (TPGs) which provide single discipline academic and technical training throughout the country. 42 CFR part 86, “Grants for Education Programs in Occupational Safety and Health, Subpart B—Occupational Safety and Health Training,” provides guidelines for implementing Pub. L. 91-596.

The Training Grant Application form (CDC 2.145.A) is used by NIOSH to collect information from applicants submitting new competing applications and from existing awardees for submitting competing renewal grants. The information is used to determine the eligibility of applicants for grant review and by peer reviewers during the peer review process to evaluate the merit of the proposed training project. The Non-Competing Application Form (CDC Form 2.145B) is used for non-competing awards to judge the annual progress of the awardee during the approved project period.

Extramural training grant awards are made annually following an extramural review process of the training grant applications including a Special Emphasis Panel, review by an internal Training Grants Council, and an internal review of non-competing applicants. The average burden per response is based on past experience using CDC Forms 2.145A and 2.145B and consultation with grantees. The annualized burden for this data collection is 10,631 hours.

Form | Number of respondents | Number of responses per respondent | Average burden per response (in hours)
Training Grant Application (CDC 2.145 A):
ERC | 4 | 1 | 660
ERC (Supplemental) | 13 | 1 | 159
TPG | 16 | 1 | 65
Continuation Grant Application (CDC 2.145B):
ERC | 12 | 1 | 335
TPG | 32 | 1 | 27

Dated: January 7, 2004.
Alvin Hall,
Director, Management Analysis and Services Office, Centers for Disease Control and Prevention.

[FR Doc. 04-771 Filed 1-13-04; 8:45 am]

BILLING CODE 4163-18-P